NUCLEAR REGULATORY COMMISSION

[Docket Nos. 50-454 and 50-455; NRC-2013-0169]

License Renewal for Byron Station, Units 1 and 2

AGENCY: Nuclear Regulatory Commission.

ACTION: License renewal and record of decision; issuance.

SUMMARY: The U.S. Nuclear Regulatory Commission (NRC) has issued renewed facility operating license Nos. NPF-37 and NPF-66 to Exelon Generation Company, LLC (Exelon or the licensee), the operator of Byron Station, Units 1 and 2 (Byron), respectively. Renewed facility operating license Nos. NPF-37 and NPF-66 authorize operation of Byron Units 1 and 2 by the licensee at reactor core power levels not in excess of 3645 megawatts thermal each, in accordance with the provisions of the Byron Units 1 and 2 renewed licenses and technical specifications. In addition, the NRC has prepared a record of decision (ROD) that supports the NRC's decision to renew facility operating license Nos. NPF-37 and NPF-66.

DATES: The license renewal of facility operating license Nos. NPF-37 and NPF-66 were effective on November 19, 2015.

ADDRESSES: Please refer to Docket ID NRC-2013-0169 when contacting the NRC about the availability of information regarding this document. You may obtain publicly-available information related to this document using any of the following methods:

• Federal Rulemaking Web site: Go to http://www.regulations.gov and search for Docket ID NRC-2013-0169. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: John Daily, Office of Nuclear Reactor Regulation, U.S. Nuclear Regulatory Commission, Washington, DC 20555-0001; telephone: 301-415-3873; email: John.Daily@nrc.gov.

SUPPLEMENTARY INFORMATION:

Notice is hereby given that the NRC has issued renewed facility operating license Nos. NPF-37 and NPF-66 to Exelon Generation Company, LLC, the operator of Byron. Renewed facility operating license Nos. NPF-37 and NPF-66 authorize operation of Byron Units 1 and 2 by the licensee at reactor core power levels not in excess of 3645 megawatts thermal each, in accordance with the provisions of the Byron, Units 1 and 2 renewed licenses and technical specifications. The NRC's ROD that supports the NRC's decision to renew facility operating license Nos. NPF-37 and NPF-66 is available in ADAMS under Accession No. ML15187A304. As discussed in the ROD and the final supplemental environmental impact statement (FSEIS) for Byron Station, Supplement 54 to NUREG-1437, “Generic Environmental Impact Statement for License Renewal of Nuclear Plants Regarding Byron Station, Units 1 and 2,” dated July 2015 (ADAMS Accession No. ML15196A263), the NRC has considered a range of reasonable alternatives that included new nuclear generation, coal-integrated gasification combined cycle, natural gas combined-cycle (NGCC), combination (NGCC, wind, and solar generation), replacement power, and the no-action alternative. The ROD and FSEIS document the NRC determination that the adverse environmental impacts of license renewal for Byron are not so great that preserving the option of license renewal for energy planning decision makers would be unreasonable.

Byron Station, Units 1 and 2 has two pressurized water reactors and is located in Ogle County, Illinois. The application for the renewed licenses, “License Renewal Application, Byron and Braidwood Stations, Units 1 and 2,” dated May 29, 2013 (ADAMS Accession Nos. ML13155A420 and ML13155A421, respectively), as supplemented by letters dated through April 13, 2015, with respect to Byron Station, complied with the standards and requirements of the Atomic Energy Act of 1954, as amended (the Act), and the NRC's regulations. As required by the Act and the NRC's regulations in Chapter I of title 10 of the Code of Federal Regulations, the NRC has made appropriate findings, which are set forth in each of the licenses. A public notice of the proposed issuance of the renewed licenses and an opportunity for a hearing was published in the Federal Register on July 24, 2013 (78 FR 44603).

For further details with respect to this action, see: (1) Exelon Generation Company, LLC's (Exelon) license renewal application for Byron Station, Units 1 and 2, and Braidwood Station, Units 1 and 2, dated May 29, 2013, as supplemented by letters dated through April 13, 2015; (2) the NRC's safety evaluation report dated July 2015 (ADAMS Accession No. ML15182A051); (3) the NRC's final environmental impact statement (NUREG-1437, Supplement 54), for Byron, Units 1 and 2, published in July 2015; and (4) the NRC's ROD.

Dated at Rockville, Maryland, this 19th day of November, 2015.
For the Nuclear Regulatory Commission.
Christopher G. Miller,
Director, Division of License Renewal, Office of Nuclear Reactor Regulation .

[FR Doc. 2015-30021 Filed 11-24-15; 8:45 am]

BILLING CODE 7590-01-P